SMALL BUSINESS ADMINISTRATION

Public Federal Regulatory Enforcement Fairness Hearing; Region I Regulatory Fairness Board

The Small Business Administration Region I Regulatory Fairness Board and the SBA Office of the National Ombudsman will hold a Public Hearing on Tuesday, September 17, 2002 at 9 a.m. at the Thomas P. O'Neil Federal Building, Auditorium—First Floor, 10 Causeway Street, Boston, MA 02222, to receive comments and testimony from small business owners, small government entities, and small non-profit organizations concerning regulatory enforcement and compliance actions taken by Federal agencies.

Anyone wishing to attend or to make a presentation must contact David Polatin in writing or by fax, in order to be put on the agenda. David Polatin, U.S. Small Business Administration, Massachusetts District Office, 10 Causeway Street, Suite 812, Boston, MA 02222, phone (617) 565-5562, fax (617) 565-5597, e-mail david.polatin@sba.gov.

For more information, see our Web site at http://www.sba.gov/ombudsman.

Dated: August 13, 2002.
Michael L. Barrera,
National Ombudsman.

[FR Doc. 02-21078 Filed 8-19-02; 8:45 am]

BILLING CODE 8025-01-P